NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (#1130).

Date and Time: July 25, 2022, 12:00 p.m. to 1:00 p.m. EST.

Place: National Science Foundation, 2415 Eisenhower Avenue, Alexandria, VA 22314 | Virtual via Zoom.

Virtual meeting attendance: A virtual link to access the meeting will be posted on the AC OPP website at: https://nsf.gov/geo/opp/advisory.jsp.

Type of Meeting: Open.

Contact Person: Sara Eckert, Office of Polar Programs, National Science Foundation, 2415 Eisenhower Ave., Alexandria, VA 22314; Contact: (703) 292-7899/seckert@nsf.gov.

Purpose of Meeting: AC review of Antarctic Research Vessel (ARV) Science Advisory Subcommittee (SASC) report following the ARV's Interim Design Review #1.

Agenda: Review and evaluate the SASC report, and vote on whether the report should be forwarded to the NSF Office of Polar Programs.

Dated: June 24, 2022.
Crystal Robinson,
Committee Management Officer.

[FR Doc. 2022-13927 Filed 6-28-22; 8:45 am]

BILLING CODE 7555-01-P